DEPARTMENT OF ENERGY

Federal Energy Regulatory Commission

[Docket No. PF14-1-000]

Sabal Trail Transmission, LLC; Supplemental Notice of Intent To Prepare an Environmental Impact Statement for the Planned Southeast Market Pipelines Project and Request for Comments on Environmental Issues Related to New Alternatives Under Consideration

In response to concerns raised about the Sabal Trail Transmission LLC's (Sabal Trail) planned Sabal Trail Project (Project),¹ additional pipeline route alternatives and compressor station location alternatives are now being considered. These alternatives which are described below would affect new landowners; therefore, the Federal Energy Regulatory Commission (FERC or Commission) is issuing this supplemental notice (Notice) to provide these landowners and other interested parties an opportunity to comment on the Project. The FERC is the lead federal agency responsible for conducting the environmental review of this Project. The Commission's staff will prepare an environmental impact statement (EIS) that discusses the environmental impacts of the Project. This EIS will be used in-part by the Commission to determine whether the Project is in the public convenience and necessity.

¹ The Project is one of three projects being reviewed concurrently as the Southeast Market Pipelines Project (SMP Project).

You have been identified as a landowner or an interested party that may be affected by new alternatives being considered or by the corresponding segment of the currently planned route. Information in this Notice was prepared to familiarize you with these new alternatives, the Project as a whole, and the Commission's environmental review process, and instruct you on how to submit comments about the Project and the alternatives under consideration. This Notice is also being sent to: Federal, state, and local government agencies; elected officials; environmental and public interest groups; Native American tribes; other interested parties; and local libraries and newspapers. We encourage elected officials and government representatives to notify their constituents about the Project and inform them on how they can comment on their areas of concern. Please note that comments on this Notice should be filed with the Commission by November 14, 2014.

If your property would be affected by one of the alternatives under consideration, you should have already been contacted by a Sabal Trail representative. A Sabal Trail representative may have also contacted you or may contact you in the near future about the acquisition of an easement to construct, operate, and maintain the planned facilities or request permission to perform environmental surveys on your property. Some landowners may not be contacted if the alternative across their property is found to be either not feasible or not environmentally preferable to other alternatives being considered. If the Commission approves the Project, that approval conveys with it the right of eminent domain. Therefore, if easement negotiations fail to produce an agreement, the pipeline company could initiate condemnation proceedings where compensation would be determined in accordance with state law.

To help potentially affected landowners and other interested parties better understand the Commission and its environmental review process, the “For Citizens” section of the FERC Web site (www.ferc.gov) provides information about getting involved in FERC jurisdictional projects, and a citizens' guide entitled “An Interstate Natural Gas Facility On My Land? What Do I Need to Know?” This guide addresses a number of frequently asked questions, including the use of eminent domain and how to participate in the Commission's proceedings.

Project Background

On October 16, 2013 the Commission's environmental staff approved Sabal Trail's request to use the Commission Pre-Filing Process for the Project. The purpose of the Pre-Filing Process is to encourage the early involvement of interested stakeholders to identify and resolve project-related issues before an application is filed with the Commission. On February 18, 2014 the Commission issued a Notice of Intent to Prepare an Environmental Impact Statement for the Planned Southeast Market Pipelines Project, Request for Comments on Environmental Issues, and Notice of Public Scoping Meetings.

During the course of the Pre-Filing Process, numerous concerns have been expressed about the potential environmental impacts of the Project. Based on the merits of these comments and to ensure that public concerns are fully considered during the Pre-Filing Process, additional alternatives have been identified and are being considered.

Project Summary

As noted previously, the Project is part of the SMP Project and will be reviewed concurrently along with the Florida Southeast Connection Project and the Hillabee Expansion Project. The SMP Project would involve the construction and operation of over 650 miles of interstate natural gas transmission pipeline and associated facilities in Alabama, Georgia, and Florida. The Project would connect with the Hillabee Expansion Project in Alabama, and the Florida Southeast Connection Project in Florida.

The Sabal Trail portion of the SMP Project would involve the construction and operation of approximately 460 miles of 36-inch-diameter natural gas transmission pipeline beginning in Tallapoosa County, Alabama and ending in Osceola County, Florida. Sabal Trail also plans to construct and operate approximately 14 miles of 36-inch-diameter natural gas transmission pipeline in Osceola and Orange Counties, Florida (Hunters Creek Line) and approximately 24 miles of 24-inch-diameter natural gas transmission pipeline in Marion and Citrus Counties, Florida (Citrus County Line). In addition to the planned pipelines, Sabal Trail would construct and operate five new compressor stations located in Tallapoosa County, Alabama; Dougherty County, Georgia; and Suwannee, Marion, and Osceola Counties, Florida.

Project Alternatives

The following alternatives are being considered. Illustrations of these alternatives are provided in Appendix 1.

Sasser Route Alternative (Terrell and Dougherty Counties, Georgia)

To address concerns regarding the planned route's impact on the environment and its proximity to numerous residences located in the Kiokee-Flint area of Dougherty County, the Sasser Route Alternative would deviate from Sabal Trail's planned route near Milepost (MP) 138.5 and extend south and east for approximately 21.5 miles before rejoining Sabal Trail's planned route at the proposed site of the Albany Compressor Station near MP 168.5.

Albany Compressor Station Alternatives (Dougherty County, Georgia)

To address concerns regarding the planned compressor station's proximity to the City of Albany and the potential effects of the station on the surrounding environment, two additional compressor station locations (Sites 3A and 5) have been identified and are being considered.

Albany Compressor Station Site Alternative 3A is an approximately 53-acre parcel located at MP 155.7 of the planned pipeline route, 1.7 miles north of Leary Road and 0.8 miles west-southwest of Woods Valley Trail. This site is adjacent to both the planned pipeline route and the Sasser Route Alternative.

Albany Compressor Station Site Alternative 5 is an approximately 53-acre parcel located along the Sasser Route Alternative, south of Gillionville Road at its intersection with Tallahassee Road. This site would only be suitable for the Sasser Route Alternative.

Withlacoochee River Crossing Route Alternative (Hamilton and Suwannee Counties, Florida)

To address concerns regarding the planned route's impact on karst terrain and known springs, the Withlacoochee River Crossing Route Alternative would deviate from Sabal Trail's planned route near MP 260.8 and extend for approximately 11.4 miles in a generally south and southeasterly direction, crossing the Suwannee River State Park via horizontal direction drill and rejoining the planned route at approximately MP 270.4.

Wacassassa Flats Route Alternative (Gilchrist County, Florida)

In response to the Gilchrist County Board of Commissioners and to address concerns regarding the planned route's impact on karst terrain, known springs, its proximity to residences, and its impacts on landowners, the Wacassassa Flats Route Alternative would deviate from Sabal Trail's planned route at approximately MP 320.8 and extend 19.4 miles generally south and east through the area known as the Wacassassa Flats until rejoining the planned route at approximately MP 339.3.

Happy Trails Route Alternative (Osceola County, Florida)

To address concerns regarding the planned route's effects on wetlands and its proximity to residences, the Happy Trails Route Alternative would deviate from Sabal Trail's planned route at approximately MP 466.6 and extend generally east and then south before rejoining the planned route at approximately MP 469.2.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this Notice, the Commission requests public comments on the alternative pipeline routes and aboveground facility locations currently under consideration. We will consider all filed comments including any additional alternatives that are suggested during the preparation of the EIS.

Our independent analysis of the issues will be presented in a draft EIS that will be placed in the public record, published, and distributed to the public for comments. We will also hold public comment meetings in the Project area and will address comments on the Draft EIS in a Final EIS. The Final EIS will also be placed in the public record, published, and distributed to the public. To ensure your comments are considered, please carefully follow the instructions in the Public Participation section below.

Consultations Under Section 106 of the National Historic Preservation Act

In accordance with the Advisory Council on Historic Preservation's implementing regulations for section 106 of the National Historic Preservation Act, we are using this supplemental Notice to inform the Georgia and Florida State Historic Preservation Offices (SHPOs) of the alternatives under consideration, and to solicit their views and those of other government agencies, interested Indian tribes, and the public on the SMP Project's potential effects on historic properties.² We will define the project-specific Area of Potential Effects (APE) in consultation with the SHPOs as the SMP Project develops. On natural gas facility projects, the APE at a minimum encompasses all areas subject to ground disturbance (examples include construction right-of-way, contractor/pipe storage yards, compressor stations, meter stations, and access roads). Our EIS for the SMP Project will document our findings on the impacts on historic properties and summarize the status of consultations under section 106.

² The Advisory Council on Historic Preservation regulations are at Title 36, Code of Federal Regulations, Part 800. Those regulations define historic properties as any prehistoric or historic district, site, building, structure, or object included in or eligible for inclusion in the National Register of Historic Places.

Public Participation

You can make a difference by providing us with your specific comments about the Project. Your comments should focus on the potential environmental effects, reasonable alternatives, and measures to avoid or lessen environmental impacts. The more specific your comments, the more useful they will be. To ensure that your comments are considered in a timely manner and properly recorded, please send your comments so that the Commission receives them in Washington, DC on or before November 14, 2014.

For your convenience, there are three methods you can use to submit your comments to the Commission. In all instances, please reference the Project docket number (PF14-1-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

Copies of the draft EIS will be sent to the environmental mailing list for public review and comment. If you would prefer to receive a paper copy of the document instead of the CD version or would like to remove your name from the mailing list, please return the attached Information Request (Appendix 2).

Becoming an Intervenor

Once Sabal Trail files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search,” and enter the docket number, excluding the last three digits (i.e., PF14-1). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: October 15, 2014.
Kimberly D. Bose,
Secretary.

[FR Doc. 2014-25066 Filed 10-21-14; 8:45 am]

BILLING CODE 6717-01-P